DEPARTMENT OF ENERGY

Federal Energy Regulatory Commission

[Project No. 14861-002]

FFP Project 101, LLC; Notice of Intent To Prepare an Environmental Impact Statement

On June 23, 2020, Rye Development on behalf of FFP Project 101, LLC (FFP) filed an application for an original major license to construct and operate its proposed 1,200-megawatt Goldendale Energy Storage Project (Goldendale Project; FERC No. 14861). The project would be located approximately 8 miles southeast of the City of Goldendale, Klickitat County, Washington, with transmission facilities extending into Sherman County, Oregon. The project would occupy 18.1 acres of land owned by the U.S. Army Corps of Engineers and administered by the Bonneville Power Administration.

On October 29, 2020, Commission staff issued Scoping Document 1, initiating the scoping process for the project in accordance with the National Environmental Policy Act (NEPA) and Commission regulations. On March 30, 2021, Commission staff issued a revised scoping document (Scoping Document 2). In accordance with the Commission's regulations, on March 24, 2022, Commission staff issued a notice that the project was ready for environmental analysis (REA Notice). Based on the information in the record, including comments filed during scoping and in response to the REA Notice, staff has determined that licensing the project may constitute a major federal action significantly affecting the quality of the human environment. Therefore, staff intends to prepare an Environmental Impact Statement (EIS) for the Goldendale Project.

A draft EIS will be issued and circulated for review by all interested parties. All comments filed in response to the REA notice, and on the draft EIS will be analyzed by staff and considered in the Commission's final licensing decision. The staff's conclusions and recommendations will be available for the Commission's consideration in reaching its final licensing decision.

The application will be processed according to the following schedule. Revisions to the schedule may be made as appropriate.

Milestone | Target date
Issue draft EIS | January 2023.
Draft EIS Public Meeting | March 2023.
Comments on draft EIS due | March 2023.
Commission issues final EIS | October 2023.¹

¹ The Council on Environmental Quality's (CEQ) regulations under 40 CFR 1501.10(b)(2) require that a Record of Decision be completed within 2 years of the federal action agency's decision to prepare an EIS. This notice establishes the Commission's intent to prepare a draft and final EIS for the Goldendale Project. Therefore, in accordance with CEQ's regulations, the Commission must reach a licensing decision within two years of the issuance date of this notice.

Any questions regarding this notice may be directed to Michael Tust at (202) 502-6522 or michael.tust@ferc.gov.

Dated: June 6, 2022.
Kimberly D. Bose,
Secretary.

[FR Doc. 2022-12548 Filed 6-9-22; 8:45 am]

BILLING CODE 6717-01-P